OFFICE OF THE UNITED STATES TRADE REPRESENTATIVE

Notice of Cancellation of Meeting of the Industry Sector Advisory Committee on Textiles and Apparel (ISAC-15)

AGENCY: Office of the United States Trade Representative.

ACTION: Notice of meeting cancellation.

SUMMARY: A notice was published in the Federal Register dated November 21, 2002, Volume number 67, Notice 225, page 70289, announcing a meeting of the Industry Sector Advisory Committee on Textiles and Apparel (ISAC-15), scheduled for December 10, 2002, from 10 a.m. to 12 p.m. The meeting was to be open to the public from 10 a.m. to 12 p.m. However, the meeting has been cancelled.

FOR FURTHER INFORMATION CONTACT: Maria E'Andrear, of the Department of Commerce, (202) 482-4792.

Christopher A. Padilla,
Assistant U.S. Trade Representative, for Intergovernmental Affairs and Public Liaison.

[FR Doc. 02-30056 Filed 11-26-02; 8:45 am]

BILLING CODE 3190-01-M